DEPARTMENT OF AGRICULTURE

U.S. Codex Office

Codex Alimentarius Commission: Meeting of the Codex Committee on Fats and Oils

AGENCY: U.S. Codex Office, USDA.

ACTION: Notice of public meeting and request for comments.

SUMMARY: The U.S Codex Office is sponsoring a public meeting on January 21, 2026. The objective of the public meeting is to provide information and receive public comments on agenda items and draft U.S. positions to be discussed at the 29th Session of the Codex Committee on Fats and Oils (CCFO29) of the Codex Alimentarius Commission (CAC). CCFO29 will be held in Kuala Lumpur, Malaysia, from February 9-13, 2026. The U.S. Manager for Codex Alimentarius and the Under Secretary for Trade and Foreign Agricultural Affairs recognize the importance of providing interested parties the opportunity to obtain background information on the 29th Session of the CCFO and to address items on the agenda.

DATES: The public meeting is scheduled for January 21, 2026, from 2-4 p.m. ET.

ADDRESSES: The public meeting will take place via video teleconference only. Documents related to the 29th Session of the CCFO will be accessible via the internet at the following link: https://www.fao.org/fao-who-codexalimentarius/meetings/detail/ro/?meeting=CCFO&session=29.

Dr. Girdhari Sharma, U.S. Delegate to the 29th Session of the CCFO, invites interested U.S. parties to submit their comments electronically to the following email address: Girdhari.Sharma@fda.hhs.gov. Comments should state that they relate to the activities of the 29th Session of the CCFO.

Registration: Attendees may register to attend the public meeting at the following link: https://www.zoomgov.com/meeting/register/KwsTgOvcQw6irPFvkTo7nQ. After registering, you will receive a confirmation email containing information about joining the meeting.

For further information about the 29th Session of the CCFO, contact U.S Delegate, Dr. Girdhari Sharma of the U.S. Food and Drug Administration, Girdhari.Sharma@fda.hhs.gov. For additional information regarding the public meeting, contact the U.S. Codex Office by email at: uscodex@usda.gov.

SUPPLEMENTARY INFORMATION:

Background

The Codex Alimentarius Commission was established in 1963. Through adoption of food standards, codes of practice, and other guidelines developed by its committees, and by promoting their adoption and implementation by governments, Codex seeks to protect the health of consumers and ensure fair practices in the food trade.

The Terms of Reference of the Committee on Fats and Oils (CCFO) are:

(a) To elaborate worldwide standards for fats and oils of animal, vegetable and marine origin including margarine and olive oil.

The CCFO is hosted by Malaysia. The United States attends the CCFO as a member country of Codex.

Issues To Be Discussed at the Public Meeting

The following items from the agenda for the 29th Session of the CCFO will be discussed during the public meeting:

• Adoption of the Agenda

• Matters arising from the Codex Alimentarius Commission and other subsidiary bodies

• Activities of international organizations relevant to the work of CCFO

• Standard for named vegetable oils (CXS 210-1999), Appendix Section 5 Methods of Analysis and Sampling—fitness for purpose of the method for determination of gamma oryzanol in rice bran oil

• Proposed draft revisions to Codex standards on fats and oils to reduce trans-fatty acid (TFA) intake

• Proposed draft standard for microbial omega-3 oils

• Review of the List of Acceptable Previous Cargoes (Appendix II to CXC 36-1987)

• Revision to the Standard for olive oil and olive pomace oil (CXS 33-1981)

○ Update on the progress for the collection of scientific data and information in relation to PPP and 1,2-DAG

○ Development of a framework for data collection on Section 3.2.3 footnote (c) (decision tree)—Follow up on the CAC47 directive

• Proposals for new work and/or revision to existing Codex standards

○ Discussion paper—revision to the Standard for named vegetable oils (CXS 210-1999) to include Shea butter

○ Discussion paper—revision to the Standard for named vegetable oils (CXS 210-1999) to include virgin coconut oil

○ Discussion paper—revision to the Standard for named vegetable oils (CXS 210-1999) to adjust stearic acid content for high oleic acid sunflower seed oil

○ Discussion paper: development of a standard for Sea buckthorn oil

• Other Business

Public Meeting

At the January 21, 2026, public meeting, draft U.S. positions on the agenda items will be described and discussed, and attendees will have the opportunity to pose questions and offer comments. Written comments may be offered at the meeting or sent to Dr. Girdhari Sharma, U.S. Delegate to the 29th Session of CCFO, at Girdhari.Sharma@fda.hhs.gov. Written comments should state that they relate to activities of the 29th Session of the CCFO.

Additional Public Notification

Public awareness of all segments of rulemaking and policy development is important. Consequently, the U.S. Codex Office will announce this Federal Register publication on-line through the USDA Codex web page located at: https://www.usda.gov/codex.

Done at Washington, DC, on January 6, 2026.
Julie A. Chao,
Deputy U.S. Manager for Codex Alimentarius.

[FR Doc. 2026-00165 Filed 1-7-26; 8:45 am]

BILLING CODE 3420-3F-P